COMMITTEE FOR PURCHASE FROM PEOPLE WHO ARE BLIND OR SEVERELY DISABLED

Procurement List; Proposed Addition and Deletions

AGENCY: Committee for Purchase From People Who Are Blind or Severely Disabled.

ACTION: Proposed addition to and deletions from the Procurement List.

SUMMARY: The Committee is proposing to add a service to the Procurement List that will be provided by a nonprofit agency employing persons who are blind or have other severe disabilities, and deletes services previously provided by such agencies.

DATES: Comments must be received on or before: 5/29/2016.

ADDRESSES: Committee for Purchase From People Who Are Blind or Severely Disabled, 1401 S. Clark Street, Suite 715, Arlington, Virginia 22202-4149.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Addition

If the Committee approves the proposed addition, the entities of the Federal Government identified in this notice will be required to provide the service listed below from the nonprofit agency employing persons who are blind or have other severe disabilities.

The following service is proposed for addition to the Procurement List for provision by the nonprofit agency listed:

Service

Service Type: Laundry Service

Service Is Mandatory for: Virginia Army National Guard, United States Property and Fiscal Office, Fort Pickett, Blackstone, VA

Mandatory Source(s) of Supply: Rappahannock Goodwill Industries, Inc., Fredericksburg, VA

Contracting Activity: Dept of the Army, W7N5 USPFO ACTIVITY VA ARNG, Blackstone, VA

Deletions

The following services are proposed for deletion from the Procurement List:

Services

Service Type: Janitorial/Custodial Service

Mandatory for: GSA PBS Region 3, Metro West, 300 and 400 North Greene Street, Baltimore, MD

Mandatory Source(s) of Supply: The Chimes, Inc., Baltimore, MD

Contracting Activity: GSA/PBS/R03, Regional Contracts Support Services Section, Philadelphia, PA

Service Type: Recycling Service

Mandatory for: Francis E. Warren Air Force Base, Francis E. Warren AFB, WY

Mandatory Source(s) of Supply: Magic City Enterprises, Inc., Cheyenne, WY

Contracting Activity: Dept of the Air Force, FA4613 90 CONS LGC, Francis E. Warren AFB, WY

Service Type: Laundry Service

Mandatory for: McChord Air Force Base: Lodging Colored Linen, McChord AFB, WA

Mandatory Source(s) of Supply: Northwest Center, Seattle, WA

Contracting Activity: Dept of the Air Force, FA4479 62 CONS LGC, McChord AFB, WA

Barry S. Lineback,
Director, Business Operations.

[FR Doc. 2016-10180 Filed 4-28-16; 8:45 am]

BILLING CODE 6353-01-P